SECURITIES AND EXCHANGE COMMISSION

[Release No. 34-83509; File Nos. SR-DTC-2017-021; SR-FICC-2017-021; SR-NSCC-2017-017]

Self-Regulatory Organizations; The Depository Trust Company; Fixed Income Clearing Corporation; National Securities Clearing Corporation; Notice of Designation of Longer Period for Commission Action on Proceedings To Determine Whether To Approve or Disapprove Proposed Rule Changes To Adopt a Recovery & Wind-Down Plan and Related Rules

June 25, 2018.

On December 18, 2017, The Depository Trust Company (“DTC”), Fixed Income Clearing Corporation (“FICC”), and National Securities Clearing Corporation (“NSCC”) (collectively, “Clearing Agencies”), each filed with the Securities and Exchange Commission (“Commission”) a proposed rule change to adopt a recovery and wind-down plan and related rules (SR-DTC-2017-021, SR-FICC-2017-021, and SR-NSCC-2017-017), respectively (“Proposed Rule Changes”), pursuant to Section 19(b)(1) of the Securities Exchange Act of 1934 (“Act”) ¹ and Rule 19b-4 thereunder.² The Proposed Rule Changes were published for comment in the Federal Register on January 8, 2018.³ On February 8, 2018, the Commission designated a longer period within which to approve, disapprove, or institute proceedings to determine whether to approve or disapprove the Proposed Rule Changes.⁴ On March 20, 2018, the Commission instituted proceedings pursuant to Section 19(b)(2)(B) of the Act ⁵ to determine whether to approve or disapprove the Proposed Rule Changes.⁶ The Commission did not receive any comments on the Proposed Rule Changes.

¹ 15 U.S.C. 78s(b)(1).

² 17 CFR 240.19b-4. On December 18, 2018, the Clearing Agencies each filed these proposals as advance notices (SR-DTC-2017-803, SR-FICC-2017-805, SR-NSCC-2017-805) with the Commission pursuant to Section 806(e)(1) of the Payment, Clearing, and Settlement Supervision Act of 2010 (“Clearing Supervision Act”) and Rule 19b-4(n)(1)(i) of the Act (“Advance Notices”). On January 30, 2018, the Commission published in the Federal Register notices of filing of the Advance Notices. These notices also extended the review periods for the Advance Notices pursuant to Section 806(e)(1)(H) of the Clearing Supervision Act. (12 U.S.C. 5465(e)(1)(H).) See Securities Exchange Act Release Nos. 82579 (January 24, 2018), 83 FR 4310 (January 30, 2018) (SR-DTC-2017-803); 82580 (January 24, 2018), 83 FR 4341 (January 30, 2018) (SR-FICC-2017-805); 82581 (January 24, 2018), 83 FR 4327 (January 30, 2018) (SR-NSCC-2017-805). On April 10, 2018, the Commission required further information for consideration of the Advance Notices, pursuant to Section 806(e)(1)(D) of the Clearing Supervision Act, which provided the Commission with a renewed 60-day review period beginning on the date that the information requested is received by the Commission. (12 U.S.C. 5465(e)(1)(D).) As of the date of this release, the Commission has not yet received the requested information.

³ Securities Exchange Act Release Nos. 82432 (January 2, 2018), 83 FR 884 (January 8, 2018) (SR-DTC-2017-021); 82431 (January 2, 2018), 83 FR 871 (January 8, 2018) (SR-FICC-2017-021); 82430 (January 2, 2018), 83 FR 841 (January 8, 2018) (SR-NSCC-2017-017).

⁴ Securities Exchange Act Release No. 82669 (February 8, 2018), 83 FR 6653 (February 14, 2018) (SR-DTC-2017-021; SR-FICC-2017-021; SR-NSCC-2017-017).

⁵ 15 U.S.C. 78s(b)(2)(B).

⁶ Securities Exchange Act Release Nos. 82912 (March 20, 2018), 83 FR 12999 (March 26, 2018) (SR-DTC-2017-021); 82913 (March 20, 2018), 83 FR 12997 (March 26, 2018) (SR-FICC-2017-021); 82908 (March 20, 2018), 83 FR 12986 (March 26, 2018) (SR-NSCC-2017-017).

Section 19(b)(2) of the Act ⁷ provides that proceedings to determine whether to approve or disapprove a proposed rule change must be concluded within 180 days of the date of publication of notice of filing of the proposed rule change. The time for conclusion of the proceedings may be extended for up to 60 days if the Commission determines that a longer period is appropriate and publishes the reasons for such determination.⁸ The 180th day for the Proposed Rule Changes is July 7, 2018.

⁷ 15 U.S.C. 78s(b)(2).

⁸ 15 U.S.C. 78s(b)(2)(B)(ii)(II).

The Commission is extending the period for Commission action on the Proposed Rule Changes. The Commission finds that it is appropriate to designate a longer period within which to take action on the Proposed Rule Changes so that the Commission has sufficient time to consider the issues raised by the Proposed Rule Changes and to take action on the Proposed Rule Changes. The proposal shall not take effect until all regulatory actions required with respect to the proposal are completed.⁹

⁹ See supra note 2.

Accordingly, pursuant to Section 19(b)(2)(B)(ii)(II) of the Act ¹⁰ and for the reasons stated above, the Commission designates September 5, 2018, as the date by which the Commission should either approve or disapprove proposed rule changes SR-DTC-2017-021, SR-FICC-2017-021, and SR-NSCC-2017-017.

¹⁰ 15 U.S.C. 78s(b)(2)(B)(ii)(II).

For the Commission, by the Division of Trading and Markets, pursuant to delegated authority.¹¹
¹¹ 17 CFR 200.30-3(a)(57).
Eduardo A. Aleman,
Assistant Secretary.

[FR Doc. 2018-13974 Filed 6-28-18; 8:45 am]

BILLING CODE 8011-01-P